DEPARTMENT OF THE INTERIOR

Bureau of Land Management

[PO #4820000251]

Records of Decision and Approved Resource Management Plan Amendments for Greater Sage-Grouse Rangewide Planning

AGENCY: Bureau of Land Management, Interior.

ACTION: Notice of availability.

SUMMARY: The Bureau of Land Management (BLM) announces the availability of the Records of Decision (RODs) for the Approved Resource Management Plan (RMP) Amendments for Greater Sage-Grouse Rangewide Planning in Colorado and Oregon. The BLM's Principal Deputy Director signed the RODs, which constitute the decisions of the BLM to approve the RMP Amendments.

ADDRESSES: The RODs/Approved RMP Amendments are available online at https://eplanning.blm.gov/eplanning-ui/project/2016719/510. Printed copies of the RODs/Approved RMP Amendments can be provided upon request by contacting BLM_HQ_GRSG_Planning@blm.gov.

A copy of the Protest Resolution Report is available at: https://www.blm.gov/programs/planning-and-nepa/public-participation/protest-resolution-reports.

FOR FURTHER INFORMATION CONTACT: Pat Deibert, BLM National Sage-Grouse Conservation Coordinator; telephone: (720)-447-8107; address: 5353 Yellowstone Road, Cheyenne, WY, 82009; email: BLM_HQ_GRSG_Planning@blm.gov. Individuals in the United States who are deaf, deafblind, hard of hearing, or have a speech disability may dial 711 (TTY, TDD, or TeleBraille) to access telecommunications relay services for contacting Dr. Deibert. Individuals outside the United States should use the relay services offered within their country to make international calls to the point-of-contact in the United States.

SUPPLEMENTARY INFORMATION: The RODs/Approved RMP Amendments update how the BLM manages public lands in Colorado and Oregon that support Western communities and enhance conservation for Greater Sage-Grouse and more than 350 other wildlife species. The plan amendments in these two States are part of a rangewide approach, developed with 10 States, Tribes, local communities, and the public to enhance conservation for Greater Sage-Grouse and its habitat. While the Governors of Colorado and Oregon did not identify any inconsistencies with the plans, policies, or programs of their States or potential inconsistencies were resolved, the BLM made minor changes from the Proposed RMP to these RODs/Approved RMP Amendments to resolve potential inconsistencies raised by other States. The BLM made these minor changes to maintain a consistent rangewide approach to Greater Sage-Grouse management and promote coordination between the BLM and the States. The minor changes include clarifying that areas identified as Priority Habitat Management Areas with limited exceptions under the Proposed RMP will be identified only as Priority Habitat Management Areas. A further explanation of this and other changes can be found in the Oregon and Colorado RODs/Approved RMP Amendments.

The States of North Dakota, South Dakota, and California did not submit any administrative protests or identify any inconsistencies with State plans, policies, or programs, so the BLM has completed the administrative process for finalizing those plans, and is prepared to issue RODs for those three States. The BLM continues to work closely with wildlife managers in five other States to finalize decisions to conserve and improve habitat across the Greater Sage-Grouse's range. Until new RODs are signed, the BLM will continue to manage Greater Sage-Grouse habitat on public lands in those eight States under the 2015 Greater Sage-Grouse RMP decisions.

This Greater Sage-Grouse planning process builds on existing direction related to Greater Sage-Grouse conservation, established in earlier planning efforts, responds to updated scientific information and changing land uses, and provides for consistent and effective rangewide conservation based on biological information that is responsive to locally relevant habitat variability. Upon finalization, these RMP Amendments update or will update goals, objectives, allocations, and management direction in 77 resource management plans in California, Colorado, Idaho, Montana, Nevada, North Dakota, Oregon, South Dakota, Utah, and Wyoming.

The BLM provided the Proposed RMP Amendments for public protest on November 15, 2024, for a 30-day protest period and received 60 unique protest letters. The BLM resolved all protests, compiling and documenting responses to protest issues in a Protest Resolution Report (see ADDRESSES). Through its review, the BLM determined that no changes from the Proposed RMP Amendments/Final EISs were necessary, although the BLM made minor changes for clarification and to improve implementation as described in the Oregon and Colorado RODs/Approved RMP Amendments.

The BLM provided the Proposed RMP Amendments to the Governors of California, Colorado, Idaho, Montana, Nevada, North Dakota, Oregon, South Dakota, Utah, and Wyoming for 60-day Governor's consistency reviews. As discussed above, the Governors of California, North Dakota, South Dakota, and Colorado did not identify any inconsistencies with State plans, policies, or programs. The BLM resolved all potential inconsistencies identified by the Governor of Oregon to the Governor's satisfaction. The BLM is continuing to work with Idaho, Montana, Nevada, Utah, and Wyoming to resolve any remaining asserted inconsistencies.

The BLM's Principal Deputy Director signed the RODs/Approved RMP Amendments, which are in effect upon signature.

(Authority: 40 CFR 1506.6; 43 CFR 1610.5-1)

Nada Wolff Culver,
Principal Deputy Director.

[FR Doc. 2025-01198 Filed 1-16-25; 8:45 am]

BILLING CODE 4331-27-P